DEPARTMENT OF HEALTH AND HUMAN SERVICES

National Institutes of Health

National Institute of Neurological Disorders and Stroke

Pursuant to section 10(a) of the Federal Advisory Committee Act, as amended (5 U.S.C. App.), notice is hereby given of an Interagency Pain Research Coordinating Committee (IPRCC) meeting.

The meeting will feature invited speakers and discussions of committee business items including the National Pain Strategy, a searchable data base for the Federally-funded pain research portfolio, and opportunities for partnerships in pain research.

The meeting will be open to the public and accessible by live webcast and conference call.

Name of Committee: Interagency Pain Research Coordinating Committee.

Type of meeting: Open Meeting.

Date: February 4, 2014.

Time: 8:30 a.m. to 5:00 p.m. *Eastern Time*—Approximate end time.

Agenda: The meeting will feature invited speakers and discussions of Committee business items including the National Pain Strategy, a searchable data base for the Federally-funded pain research portfolio, and opportunities for partnerships in pain research.

Place: National Institutes of Health, Building 31, C Wing, Conference Room 6, 31 Center Drive, Bethesda, MD 20892.

Conference Call: Dial: 888-790-2053.

Participant Passcode: 1866472.

Cost: The meeting is free and open to the public.

Webcast Live: http://videocast.nih.gov/.

Registration: http://iprcc.nih.gov/.

Deadlines: Notification of intent to present oral comments: Friday, January 24, 2014, by 5:00 p.m. E.T.

Submission of written/electronic statement for oral comments: Tuesday, January 28, 2014, by 5:00 p.m. E.T.

Submission of written comments: Thursday, January 30, 2014, by 5:00 p.m. E.T.

Access: Medical Center Metro (Red Line). Visitor Information: http://www.nih.gov/about/visitor/index.htm.

Contact Person: Linda L. Porter, Ph.D., Pain Policy Advisor, Office of Pain Policy, Officer of the Director, National Institute of Neurological Disorders and Stroke, NIH, 31 Center Drive, Room 8A03, Bethesda, MD 20892, Phone: (301) 496-9271, Email: IPRCC PublicInquiries@mail.nih.gov.

Please Note. Any member of the public interested in presenting oral comments to the Committee must notify the Contact Person listed on this notice by 5:00 p.m. ET on Friday, January 24, 2014, with their request to present oral comments at the meeting. Interested individuals and representatives of organizations must submit a written/electronic copy of the oral statement/comments including a brief description of the organization represented by 5:00 p.m. ET on Tuesday, January 28, 2014.

Statements submitted will become a part of the public record. Only one representative of an organization will be allowed to present oral comments on behalf of that organization, and presentations will be limited to three to five minutes per speaker, depending on number of speakers to be accommodated within the allotted time. Speakers will be assigned a time to speak in the order of the date and time when their request to speak is received, along with the required submission of the written/electronic statement by the specified deadline. If special accommodations are needed, please email the Contact Person listed above.

In addition, any interested person may submit written comments to the IPRCC prior to the meeting by sending the comments to the Contact Person listed on this notice by 5:00 p.m. ET, Thursday, January 30, 2014. The comments should include the name and, when applicable, the business or professional affiliation of the interested person. All written comments received by the deadlines for both oral and written public comments will be provided to the IPRCC for their consideration and will become part of the public record.

The meeting will be open to the public through a conference call phone number and webcast live on the Internet. Members of the public who participate using the conference call phone number will be able to listen to the meeting but will not be heard. If you experience any technical problems with the conference call or webcast, please call Operator Service on (301) 496-4517 for conference call issues and the NIH IT Service Desk at (301) 496-4357, toll free (866) 319-4357, for webcast issues.

Individuals who participate in person or by using these electronic services and who need special assistance, such as captioning of the conference call or other reasonable accommodations, should submit a request to the Contact Person listed on this notice at least seven days prior to the meeting.

As a part of security procedures, attendees should be prepared to present a photo ID during the security process to get on the NIH campus. For a full description, please see: http://www.nih.gov/about/visitorsecurity.htm.

Information about the IPRCC is available on the Web site: http://iprcc.nih.gov/.

Dated: December 17, 2013.
David Clary,
Program Analyst, Office of Federal Advisory Committee Policy.

[FR Doc. 2013-30399 Filed 12-20-13; 8:45 am]

BILLING CODE 4140-01-P